NATIONAL ARCHIVES AND RECORDS ADMINISTRATION

[NARA-2015-062]

Records Management; General Records Schedule (GRS); GRS Transmittal 25; Email Managed Under a Capstone Approach

AGENCY: National Archives and Records Administration (NARA)

ACTION: Notice of new General Records Schedule (GRS) Transmittal 25

SUMMARY: NARA is issuing a new General Records Schedule (GRS) via GRS Transmittal 25. The GRS provides agencies with mandatory disposition instructions for administrative records common to several or all Federal agencies. Transmittal 25 announces changes we have made to the GRS since we published Transmittal 24 in August 2015. We are concurrently disseminating Transmittal 25 (the memo and the accompanying records schedule and FAQ document) directly to each agency's records management official and have posted it on NARA's Web site.

DATES: This transmittal is effective the date it publishes in the Federal Register.

ADDRESSES: You can find this transmittal on NARA's Web site at http://www.archives.gov/records-mgmt/grs/. You can download the complete current GRS, in PDF format, from NARA's Web site at http://www.archives.gov/records-mgmt/grs.html (however, please remember in this case to download both Transmittal 24 and 25 if you want the complete GRS).

FOR FURTHER INFORMATION CONTACT: For more information about this notice or to obtain paper copies of the GRS, contact Kimberly Keravuori, External Policy Program Manager, at regulation_comments@nara.gov, or by telephone at 301.837.3151.

You may contact NARA's GRS Team (within Records Management Services in the National Records Management Program, Office of the Chief Records Officer) with general questions about the GRS at GRS_Team@nara.gov.

Your agency's records officer may contact the NARA appraiser or records analyst with whom your agency normally works for support in carrying out this transmittal and the revised portions of the GRS. We have posted a list of the appraisal and scheduling work group and regional contacts on our Web site at http://www.archives.gov/records-mgmt/appraisal/index.html.

SUPPLEMENTARY INFORMATION:

What is GRS Transmittal 25?

GRS Transmittal 25 is the issuing memo for newly-revised portions of the General Records Schedule (GRS). We are completely rewriting the GRS over the course of a five-year project. We published the master plan for that project in 2013 under records management memo AC 02.2013 (http://www.archives.gov/records-mgmt/memos/ac02-2013.html). We have changed some details in the plan, but its major outlines remain solid. Transmittal 23 was the first installment of the new GRS; Transmittal 24 was the second. GRS Transmittal 25 issues additions to the GRS that we have made since we published GRS Transmittal 24 in August 2015. However, schedules published in GRS Transmittal 24 are still active.

What does Transmittal 25 contain and how do I use it?

GRS Transmittal 25 contains one new schedule: GRS 6.1, Email Managed under a Capstone Approach, and an accompanying frequently-asked-questions (FAQ) document. Transmittal 25 does not supersede GRS Transmittal 24; you should use it in concert with Transmittal 24, which publishes all other GRSs.

Why does this transmittal not republish all previously approved GRS schedules as have previous transmittals?

We issued Transmittal 24 just a few weeks ago, on August 18, 2015. Because that transmittal superseded a considerable number of old GRS items, we permitted agencies six months in which to take certain actions required to update their manuals. Transmittal 24 needs to remain a separate publication until that six months has elapsed so that agencies can be clear on the responsibilities arising from that document. We will incorporate the new schedule from Transmittal 25, along with the schedules contained in Transmittal 24, into the next transmittal for a complete set as usual.

What GRS items does Transmittal 25 rescind?

None. Transmittal 25 covers records never before scheduled by the GRS.

How do I cite new GRS items?

When you send records to a Federal Records Center for storage, you should cite the records' legal authority—the “DAA” number—in the “Disposition Authority” column of the table. For other references, use the schedule and item number. For example, cite “DAA-GRS-2014-0001-0001 (GRS 6.1, item 010).”

Do I have to take any action to implement these GRS changes?

If your agency has chosen to use the Capstone approach to managing email, you may use GRS 6.1 provided your agency submits NA-1005 for NARA review. An agency may not implement GRS 6.1 until NARA reviews and approves the agency's NA-1005 submission. Submit form NA-1005 to GRS_Team@nara.gov.

NARA regulations (36 CFR 1226.12(a)) require agencies to disseminate GRS changes within six months of receipt.

If you do not have an already existing agency-specific disposition authority but wish to apply a retention period that differs from that specified in the GRS, you must create a records schedule in the Electronic Records Archives and submit it to NARA for approval.

Dated: September 10, 2015.
David S. Ferriero,
Archivist of the United States.

[FR Doc. 2015-23245 Filed 9-15-15; 8:45 am]

BILLING CODE 7515-01-P